DEPARTMENT OF ENERGY

Federal Energy Regulatory Commission

Combined Notice of Filings #1

Take notice that the Commission received the following electric corporate filings:

Docket Numbers: EC19-98-000.

Applicants: Grady Wind Energy Center, LLC, Pattern Energy Group Inc.

Description: Supplement to June 6, 2019 Application for Authorization Under Section 203 of the Federal Power Act, et al. of Grady Wind Energy Center, et al.

Filed Date: 7/25/19.

Accession Number: 20190725-5059.

Comments Due: 5 p.m. ET 8/5/19.

Take notice that the Commission received the following exempt wholesale generator filings:

Docket Numbers: EG19-157-000.

Applicants: DWW Solar II, LLC.

Description: Notice of Self-Certification of Exempt Wholesale Generator Status of DWW Solar II, LLC.

Filed Date: 7/25/19.

Accession Number: 20190725-5087.

Comments Due: 5 p.m. ET 8/15/19.

Take notice that the Commission received the following electric rate filings:

Docket Numbers: ER10-1633-002.

Applicants: Deseret Generation and Transmission Co-operative, Inc.

Description: Updated Market Power Analysis of Deseret Generation and Transmission Co-operative, Inc.

Filed Date: 7/26/19.

Accession Number: 20190726-5113.

Comments Due: 5 p.m. ET 9/24/19.

Docket Numbers: ER19-1765-001.

Applicants: CSOLAR IV South, LLC.

Description: Compliance filing: Compliance Filing to Revise eTariff Records to be effective 5/3/2019.

Filed Date: 7/26/19.

Accession Number: 20190726-5104.

Comments Due: 5 p.m. ET 8/16/19.

Docket Numbers: ER19-1765-002.

Applicants: CSOLAR IV South, LLC.

Description: Compliance filing: Compliance Filing to Revise eTariff Records to be effective 5/3/2019.

Filed Date: 7/26/19.

Accession Number: 20190726-5105.

Comments Due: 5 p.m. ET 8/16/19.

Docket Numbers: ER19-1766-001.

Applicants: CSOLAR IV South, LLC.

Description: Compliance filing: Compliance Filing to Revise eTariff Record to be effective 5/3/2019.

Filed Date: 7/26/19.

Accession Number: 20190726-5106.

Comments Due: 5 p.m. ET 8/16/19.

Docket Numbers: ER19-1931-001.

Applicants: Electric Energy, Inc.

Description: Compliance filing: compliance to 122020 to be effective 5/22/2019.

Filed Date: 7/25/19.

Accession Number: 20190725-5085.

Comments Due: 5 p.m. ET 8/15/19.

Docket Numbers: ER19-2026-001.

Applicants: Puget Sound Energy, Inc.

Description: Tariff Amendment: Air Liquide Amendment to be effective 5/1/2019.

Filed Date: 7/25/19.

Accession Number: 20190725-5091.

Comments Due: 5 p.m. ET 8/15/19.

Docket Numbers: ER19-2027-001.

Applicants: Puget Sound Energy, Inc.

Description: Tariff Amendment: Equilon Amendment to be effective 5/1/2019.

Filed Date: 7/25/19.

Accession Number: 20190725-5092.

Comments Due: 5 p.m. ET 8/15/19.

Docket Numbers: ER19-2027-002.

Applicants: Puget Sound Energy, Inc.

Description: Tariff Amendment: Equilon Amendment to be effective 5/1/2019.

Filed Date: 7/26/19.

Accession Number: 20190726-5000.

Comments Due: 5 p.m. ET 8/16/19.

Docket Numbers: ER19-2028-001.

Applicants: Puget Sound Energy, Inc.

Description: Tariff Amendment: Tesoro Amendment to be effective 5/1/2019.

Filed Date: 7/25/19.

Accession Number: 20190725-5094.

Comments Due: 5 p.m. ET 8/15/19.

Docket Numbers: ER19-2441-001.

Applicants: Tri-State Generation and Transmission Association, Inc.

Description: Tariff Amendment: Refile Baseline Tri-State Open Access Transmission Tariff to be effective 9/22/2019.

Filed Date: 7/26/19.

Accession Number: 20190726-5056.

Comments Due: 5 p.m. ET 8/16/19.

Docket Numbers: ER19-2444-001.

Applicants: Tri-State Generation and Transmission Association, Inc.

Description: Tariff Amendment: Refile Baseline Tri-State Wholesale Electric Service Contracts to be effective 9/22/2019.

Filed Date: 7/26/19.

Accession Number: 20190726-5058.

Comments Due: 5 p.m. ET 8/16/19.

Docket Numbers: ER19-2461-000.

Applicants: Crowned Ridge Wind, LLC.

Description: Baseline eTariff Filing: Crowned Ridge Wind, LLC Application for MBR Authority to be effective 9/24/2019.

Filed Date: 7/25/19.

Accession Number: 20190725-5078.

Comments Due: 5 p.m. ET 8/15/19.

Docket Numbers: ER19-2462-000.

Applicants: Macquarie Energy LLC.

Description: Compliance filing: New eTariff Baseline Filing to be effective 6/29/2019.

Filed Date: 7/25/19.

Accession Number: 20190725-5079.

Comments Due: 5 p.m. ET 8/15/19.

Docket Numbers: ER19-2463-000.

Applicants: Utah Red Hills Renewable Park, LLC.

Description: Compliance filing: New eTariff Baseline Filing to be effective 6/29/2019.

Filed Date: 7/25/19.

Accession Number: 20190725-5086.

Comments Due: 5 p.m. ET 8/15/19.

Docket Numbers: ER19-2464-000.

Applicants: Massachusetts Electric Company.

Description: § 205(d) Rate Filing: Filing of SA No. IA-MECO-52 SGIA with Mini-Watt Hydroelectric LLC to be effective 7/1/2019.

Filed Date: 7/25/19.

Accession Number: 20190725-5089.

Comments Due: 5 p.m. ET 8/15/19.

Docket Numbers: ER19-2465-000.

Applicants: Massachusetts Electric Company.

Description: § 205(d) Rate Filing: Filing of SA No. IA-MECO-53 SGIA with Mini-Watt Hydroelectric LLC to be effective 7/1/2019.

Filed Date: 7/25/19.

Accession Number: 20190725-5095.

Comments Due: 5 p.m. ET 8/15/19.

Docket Numbers: ER19-2466-000.

Applicants: Public Service Company of New Mexico.

Description: Initial rate filing: Transmission Construction and Interconnection Agreement with Pueblo of Acoma to be effective 6/26/2019.

Filed Date: 7/25/19.

Accession Number: 20190725-5096.

Comments Due: 5 p.m. ET 8/15/19.

Docket Numbers: ER19-2467-000.

Applicants: Niagara Mohawk Power Corporation, New York Independent System Operator, Inc.

Description: § 205(d) Rate Filing: Engineering & Procurement SA 2471—NMPC & Invenergy Wind Development to be effective 6/25/2019.

Filed Date: 7/26/19.

Accession Number: 20190726-5016.

Comments Due: 5 p.m. ET 8/16/19.

Docket Numbers: ER19-2468-000.

Applicants: Duke Energy Carolinas, LLC.

Description: Application for Recovery of Cancelled Nuclear Plant Costs of Duke Energy Carolinas, LLC.

Filed Date: 7/26/19.

Accession Number: 20190726-5059.

Comments Due: 5 p.m. ET 8/16/19.

Docket Numbers: ER19-2469-000.

Applicants: Oklahoma Cogeneration, LLC.

Description: Tariff Cancellation: Notice of Cancellation to be effective 9/6/2019.

Filed Date: 7/26/19.

Accession Number: 20190726-5061.

Comments Due: 5 p.m. ET 8/16/19.

Docket Numbers: ER19-2470-000.

Applicants: Tri-State Generation and Transmission Association, Inc.

Description: Compliance filing: Tri-State OATT's Compliance with Order No. 845 to be effective 9/22/2019.

Filed Date: 7/26/19.

Accession Number: 20190726-5065.

Comments Due: 5 p.m. ET 8/16/19.

Docket Numbers: ER19-2471-000.

Applicants: Midcontinent Independent System Operator, Inc., GridLiance Heartland LLC.

Description: § 205(d) Rate Filing: 2019-07-26_SA 3335 GridLiance Heartland-Ameren Illinois TIA to be effective 12/31/9998.

Filed Date: 7/26/19.

Accession Number: 20190726-5084.

Comments Due: 5 p.m. ET 8/16/19.

Docket Numbers: ER19-2472-000.

Applicants: Alabama Power Company.

Description: § 205(d) Rate Filing: APCo-Gulf TFCAT A&R Service Agreements Amendment Filing (Revised ROE) to be effective 1/1/2019.

Filed Date: 7/26/19.

Accession Number: 20190726-5112.

Comments Due: 5 p.m. ET 8/16/19.

Docket Numbers: ER19-2473-000.

Applicants: Basin Electric Power Cooperative, Inc.

Description: Request for One-Time Waiver of certain requirements under Attachment O to MISO's Open Access Transmission, Energy and Operating Reserve Markets Tariff of Basin Electric Power Cooperative.

Filed Date: 7/26/19.

Accession Number: 20190726-5121.

Comments Due: 5 p.m. ET 8/16/19.

Docket Numbers: ER19-2474-000.

Applicants: Tri-State Generation and Transmission Association, Inc.

Description: § 205(d) Rate Filing: Tri-State Transmission Service Agreements to be effective 9/22/2019.

Filed Date: 7/26/19.

Accession Number: 20190726-5122.

Comments Due: 5 p.m. ET 8/16/19.

Docket Numbers: ER19-2475-000.

Applicants: UNS Electric, Inc.

Description: § 205(d) Rate Filing: Line Siting Agreement to be effective 7/26/2019.

Filed Date: 7/26/19.

Accession Number: 20190726-5136.

Comments Due: 5 p.m. ET 8/16/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 26, 2019.
Nathaniel J. Davis, Sr.,
Deputy Secretary.

[FR Doc. 2019-16455 Filed 8-1-19; 8:45 am]

BILLING CODE 6717-01-P